LEGAL SERVICES CORPORATION

Notice of Intent to Award—Grant Awards for the Provision of Civil Legal Services to Eligible Low-Income Clients Beginning March 1, 2002

AGENCY: Legal Services Corporation.

ACTION: Announcement of intention to make FY 2002 Competitive Grant Awards.

SUMMARY: The Legal Services Corporation (LSC) hereby announces its intention to award grants and contracts to provide economical and effective delivery of high quality civil legal services to eligible low-income clients, beginning March 1, 2002.

DATES: All comments and recommendations must be received on or before the close of business on December 26, 2001.

ADDRESSES: Legal Services Corporation—Competitive Grants, Legal Services Corporation, 750 First Street NE, 10th Floor, Washington, DC 20002-4250.

FOR FURTHER INFORMATION CONTACT: Reginald Haley, Office of Program Performance, (202) 336-8827.

SUPPLEMENTARY INFORMATION: Pursuant to LSC's announcement of funding availability on April 19, 2001 (66 FR 20165), July 13, 2001 (66 FR 36807), and Grant Renewal applications due on August 13, 2001, LSC will award funds to one or more of the following organizations to provide civil legal services in the indicated service areas. The grant amounts shown below are based on FY 2001 funding levels and reflect a ten month funding period beginning March 1, 2002, and ending December 31, 2002.

Service area | Applicant name | Anticipated FY 2002 award
WI-5 | Legal Action of Wisconsin | $2,783,980
MWI | Legal Action of Wisconsin | 66.480
NWI-1 | Wisconsin Judicare, Inc | 116,810
WI-2 | Wisconsin Judicare, Inc | 888,410
LA-9 | Capital Area Legal Services Corporation | 3,509,370
LA-9 | Southeast Louisiana Legal Services Corporation | 3,509,370
LA-9 | New Orleans Legal Assistance Corporation | 3,509,370

These grants and contracts will be awarded under the authority conferred on LSC by the Legal Services Corporation Act, as amended (42 U.S.C. 2996e(a)(1)). Awards will be made so that each service area indicated above is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about March 1, 2002.

Dated: November 19, 2001.
Michael A. Genz,
Director, Office of Program Performance.

[FR Doc. 01-29355 Filed 11-23-01; 8:45 am]

BILLING CODE 7050-01-P